DEPARTMENT OF TRANSPORTATION

Federal Highway Administration

Environmental Impact Statement: Alameda and Contra Costa Counties, California

AGENCY: Federal Highway Administration (FHWA), DOT.

ACTION: Notice of Intent.

SUMMARY: The FHWA is issuing this notice to advise the public that an environmental impact statement will be prepared for a proposed highway project in Alameda and Contra Costa Counties.

FOR FURTHER INFORMATION CONTACT: Maiser Khaled, Chief District Operations—North, Federal Highway Adminstration, California Division, 980 Ninth Street, Suite 400, Sacramento, California 95814-2724, Telephone: (916) 498-5020 or John Webb, Chief Environmental Management, Caltrans North Region, Sacramento Area Office, PO Box 942874, Sacramento, CA. 94274-0001, Telephone: (916) 274-0588.

SUPPLEMENTARY INFORMATION: The FHWA, in cooperation with the California Department of Transportation (Caltrans), will prepare an environmental impact statement (EIS) for a proposed project to construct a forth bore of the Caldecott tunnel between the State Route 24/Broadway interchange in the City of Oakland in Alameda County and the State Route 24/Camino Pablo interchange in the City of Orinda in Contra Costa County, California.

Improvements to the corridor are considered necessary to alleviate congestion, improve safety, and provide for existing and projected trafic demand. Alternatives under consideration include (1) taking no action; (2) a 2-lane bore North or South; (3) a 3-lane bore North or South; and (4) a 4-lane bore North or South.

Letters describing the proposed action and soliciting comments will be sent to appropriate Federal, State and local agencies, and to private organizations and citizens who have previously expressed or are known to have interest in this proposal. Two public scoping meetings will be held. One public scoping meeting will be held in the evening on December 11 at 6:30 p.m. at the Orinda Masonic Center, 9 Altarinda Road in Orinda. A second public scoping meeting will be held in the evening on December 12 at at 6:30 p.m. at the MetroCenter Auditorium, 101 Eighth Street in Oakland. Additional public meetings will be held. In addition, a public hearing will be held. The draft EIS will be available for public and agency review and comment prior to the public hearing. Public notice will be given of the exact time and location of the meetings and hearing.

To ensure that the full range of issues related to this proposed action are addressed and all significant issues are identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: November 14, 2002.
Maiser Khaled,
Chief, District Operations—North Sacramento, California.

[FR Doc. 02-29564 Filed 11-20-02; 8:45 am]

BILLING CODE 4910-22-M